DEPARTMENT OF STATE

[Public Notice 5907]

Shipping Coordinating Committee; Notice of Meeting

The Subcommittee on Stability, Load Lines and Fishing Vessel Safety of the Shipping Coordinating Committee will conduct an open meeting at 1 p.m. on Thursday, September 27, 2007, in Room 6319 of the United States Coast Guard Headquarters Building, 2100 2nd Street, SW., Washington, DC, 20593-0001. The primary purpose of the meeting is to begin preparations for the 51st Session of the International Maritime Organization (IMO) Sub-Committee on Stability and Load Lines and on Fishing Vessels Safety to be held at IMO Headquarters in London, England from July 14th to July 18th, 2008.

The primary matters to be considered include:

—Development of explanatory notes for harmonized International Convention for the Safety of Life at Sea (SOLAS) Chapter II-1;

—Revision of the Intact Stability Code;

—Safety of small fishing vessels;

—Development of options to improve effect on ship design and safety of the International Convention on Tonnage Measurement of Ships, 1969 (TM Convention);

—Review of guidelines for uniform operating limitations on high-speed craft, prepared by the Sub-Committee on Ship Design and Equipment (DE);

—Time-dependent survivability of passenger ships in damaged condition;

—Guidance on the impact of open watertight doors on existing and new ship survivability;

—Stability and seakeeping characteristics of damaged passenger ships in a seaway when returning to port by own power or under tow;

—Damage stability verification of tank vessels.

Members of the public may attend this meeting up to the seating capacity of the room. Interested persons may seek information by writing to Mr. Paul Cojeen, Commandant (CG-3PSE), U.S. Coast Guard Headquarters, 2100 2nd St. SW., Room 1308, Washington, DC 20593-0001 or by calling (202) 372-1372.

Dated: September 6, 2007.
Mark W. Skolnicki,
Executive Secretary, Shipping Coordinating Committee, Department of State.

[FR Doc. E7-17981 Filed 9-11-07; 8:45 am]

BILLING CODE 4710-09-P